DEPARTMENT OF TRANSPORTATION

Federal Aviation Administration

14 CFR Part 71

[Docket No. FAA-2022-0376; Airspace Docket No. 22-ANE-4]

RIN 2120-AA66

Amendment of Class E Airspace; Montpelier, VT

AGENCY: Federal Aviation Administration (FAA), DOT.

ACTION: Final rule; technical amendment.

SUMMARY: A final rule was published in the Federal Register on June 10, 2022, amending Class E surface airspace and Class E airspace extending upward from 700 feet above the surface for Edward F. Knapp State Park Airport, Montpelier, VT. This action corrects the Class E airspace extending upward from 700 feet above the surface description by adding the words, excluding that airspace within a 1¾-mile radius of Warren-Sugarbush Airport.

DATES: Effective 0901 UTC, February 23, 2022. The Director of the Federal Register approves this incorporation by reference action under 1 CFR part 51, subject to the annual revision of FAA Order JO 7400.11 and publication of conforming amendments.

FOR FURTHER INFORMATION CONTACT: John Fornito, Operations Support Group, Eastern Service Center, Federal Aviation Administration, 1701 Columbia Ave., College Park, GA 30337; Telephone (404) 305-6364.

SUPPLEMENTARY INFORMATION:

Authority for This Rulemaking

History

The FAA published a final rule in the Federal Register (87 FR 35383, June 10, 2022) for Doc. No. FAA-2022-0376, to amend Class E surface airspace and Class E airspace extending upward from 700 feet above the surface at Edward F. Knapp State Park Airport, Montpelier, VT, due to the decommissioning of the Mount Mansfield non-directional beacon (NDB) and cancellation of associated approaches, as well as updating the airport's geographic coordinates.

Subsequent to publication, the FAA found that Warren-Sugarbush Airport was located too close to the Class E airspace extending upward from 700 feet above the surface at Edward F. Knapp State Park Airport. This action corrects this error.

Class E airspace designations are published in Paragraphs 6002 and 6005, respectively, of FAA Order JO 7400.11G dated August 19, 2022, and effective September 15, 2022, which is incorporated by reference in 14 CFR 71.1. The Class E airspace designations listed in this document will be published subsequently in FAA Order JO 7400.11G.

Technical Amendment

This action amends (14 CFR) part 71 by correcting the Class E airspace extending upward from 700 feet above the surface description by adding the words, “excluding that airspace within a 1¾-mile radius of Warren-Sugarbush Airport”.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraphs 5-6.5a. This airspace action is not expected to cause any potentially significant environmental impacts, and no extraordinary circumstances exist that warrant the preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389

§ 71.1 [Amended]

2. The incorporation by reference in 14 CFR 71.1 of FAA Order 7400.11G, Airspace Designations and Reporting Points, dated August 19, 2022, and effective September 15, 2022, is amended as follows:

Paragraph 6005 Class E Airspace Areas Extending Upward From 700 Feet or More Above the Surface of the Earth.

* * * * *

ANE VT E5 Montpelier, VT [Amended]

Edward F. Knapp State Airport, VT

(Lat. 44°12′13″ N, long. 72°33′44″ W)

That airspace extending upward from 700 feet above the surface within a 13-mile radius of Edward F. Knapp State Airport, excluding that airspace within a 1¾-mile radius of Warren-Sugarbush Airport.

Issued in College Park, Georgia, on November 29, 2022.
Lisa E. Burrows,
Manager, Airspace & Procedures Team North, Eastern Service Center, Air Traffic Organization.

[FR Doc. 2022-26285 Filed 12-2-22; 8:45 am]

BILLING CODE 4910-13-P